LIBRARY OF CONGRESS

Copyright Office

37 CFR Part 202

[Docket No. 2016-03]

Mandatory Deposit of Electronic-Only Books: Extension of Comment Period

AGENCY: U.S. Copyright Office, Library of Congress.

ACTION: Notice of proposed rulemaking; extension of comment period.

SUMMARY: The U.S. Copyright Office is further extending the deadline for the submission of written comments in response to its April 16, 2018 notice of proposed rulemaking, regarding revisions to its regulations to finalize a 2010 interim rule regarding mandatory deposit of electronic-only works, and to make electronic-only books published in the United States subject to the mandatory deposit requirements if they are affirmatively demanded by the Office.

DATES: The comment period for the notice of proposed rulemaking, published on April 16, 2018 at 83 FR 16269, is extended by an additional forty-five days. Comments must be made in writing and must be received in the U.S. Copyright Office no later than July 16, 2018.

ADDRESSES: For reasons of government efficiency, the Copyright Office is using the regulations.gov system for the submission and posting of public comments in this proceeding. All comments are therefore to be submitted electronically through regulations.gov. Specific instructions for submitting comments are available on the Copyright Office website at https://www.copyright.gov/rulemaking/ebookdeposit/. If electronic submission of comments is not feasible due to lack of access to a computer and/or the internet, please contact the Office for special instructions using the contact information below.

FOR FURTHER INFORMATION CONTACT: Cindy P. Abramson, Assistant General Counsel, by email at ciab@loc.gov or John R. Riley at jril@loc.gov. Both can be reached by telephone at 202-707-8350.

SUPPLEMENTARY INFORMATION: On April 16, 2018, the U.S. Copyright Office issued a proposed rulemaking making revisions to its regulations to finalize a 2010 interim rule regarding mandatory deposit of electronic-only works, and to make electronic-only books published in the United States subject to the mandatory deposit requirements if they are affirmatively demanded by the Office.¹ The Office invited public comment on the notice of proposed rulemaking. To ensure that members of the public have sufficient time to respond, and to ensure that the Office has the benefit of a complete record, the Office is extending the submission deadline by an additional forty-five days. Written comments now are due no later than July 16, 2018.

¹ 83 FR 16269 (April 16, 2018).

Dated: May 11, 2018.
Sarang V. Damle,
General Counsel and Associate Register of Copyrights.

[FR Doc. 2018-10421 Filed 5-15-18; 8:45 am]

BILLING CODE 1410-30-P